DEPARTMENT OF DEFENSE

Department of the Air Force

Record of Decision for F35A Training Basing Final Environmental Impact Statement

ACTION: Notice of Availability (NOA).

SUMMARY: On June 26, 2013, the United States Air Force signed a second ROD for the F-35A Training Basing Final Environmental Impact Statement (FEIS). The ROD states the Air Force decision to beddown an additional 72 F-35A Primary aircraft authorized (PAA) training aircraft at Luke Air Force Base, Arizona. This beddown of 72 F-35A will bring the total number of F-35A training aircraft to 144 PAA during calander year 2023.

The decision was based on matters discussed in the FEIS, inputs from the public and regulatory agencies, and other relevant factors. The FEIS was made available to the public on June 15, 2012 through a NOA in the Federal Register (Volume 77, Number 116, Page 35961) with a wait period that ended on July 15, 2012. The ROD documents only the decision of the Air Force with respect to the proposed Air Force actions analyzed in the FEIS.

Authority: This NOA is published pursuant to the regulations (40 CFR Part 1506.6) implementing the provisions of the NEPA of 1969 (42 U.S.C. 4321, et seq.) and the Air Force's Environmental Impact Analysis Process (EIAP) (32 CFR Parts 989.21(b) and 989.24(b)(7))

FOR FURTHER INFORMATION CONTACT: Ms. Kim Fornof, 266 F Street West, Building 901, Randolph AFB, 78150-4319, (210) 652-1961, kimberly.fornof@us.af.mil.

Bao-Anh Trinh,
Air Force Federal Register Liaison Officer.

[FR Doc. 2013-17615 Filed 7-22-13; 8:45 am]

BILLING CODE 5001-10-P